DEPARTMENT OF AGRICULTURE

Agricultural Marketing Service

7 CFR Part 905

[Docket No. FV02-905-1]

Oranges, Grapefruit, Tangerines, and Tangelos Grown in Florida; Continuance Referendum

AGENCY: Agricultural Marketing Service, USDA.

ACTION: Referendum order.

SUMMARY: This document directs that a referendum be conducted among eligible producers of Florida citrus fruit to determine whether they favor continuance of the marketing order regulating the handling of oranges, grapefruit, tangerines, and tangelos grown in the production area.

DATES: The referendum will be conducted from April 4, 2002 through April 26, 2002. To vote in this referendum, growers must have been producing Florida citrus during the period August 31, 2000, through September 1, 2001.

ADDRESSES: Copies of the marketing order may be obtained from the office of the referendum agent at 799 Overlook Drive, Suite A, Winter Haven, Florida 33884, or the Office of the Docket Clerk, Marketing Order Administration Branch, Fruit and Vegetable Programs, AMS, USDA, 1400 Independence Avenue, SW., STOP 0237, Washington, DC, 20250-0237.

FOR FURTHER INFORMATION CONTACT: William G. Pimental, Southeast Marketing Field Office, Marketing Order Administration Branch, Fruit and Vegetable Programs, Agricultural Marketing Service, Department of Agriculture, at 799 Overlook Drive, Suite A, Winter Haven, Florida 33884; telephone (863) 324-3375; or Melissa Schmaedick, Marketing Order Administration Branch, Fruit & Vegetable Programs, Agricultural Marketing Service, Department of Agriculture, 1400 Independence Avenue, SW., STOP 0237, Washington, DC 20250-0237; telephone (202) 720-2491.

SUPPLEMENTARY INFORMATION: Pursuant to Marketing Order No. 905 (7 CFR part 905), hereinafter referred to as the “order” and the applicable provisions of the Agricultural Marketing Agreement Act of 1937, as amended (7 U.S.C. 601-674), hereinafter referred to as the “Act,” it is hereby directed that a referendum be conducted to ascertain whether continuance of the order is favored by producers. The referendum shall be conducted during the period April 4, 2002 through April 26, 2002 among Florida citrus producers in the production area. Only producers that were engaged in the production of Florida citrus during the period of August 31, 2000, through September 1, 2001, may participate in the continuance referendum.

The Department of Agriculture (USDA) has determined that continuance referenda are an effective means for ascertaining whether producers favor continuation of marketing order programs. The USDA would consider termination of the order if less than two-thirds of the producers voting in the referendum and producers of less than two-thirds of the volume of Florida citrus represented in the referendum favor continuance. In evaluating the merits of continuance versus termination, the USDA will consider the results of the referendum and other relevant information regarding operation of the order. USDA will evaluate the order's relative benefits and disadvantages to growers, handlers, and consumers to determine whether continuing the order would tend to effectuate the declared policy of the Act.

In accordance with the Paperwork Reduction Act of 1995 (44 U.S.C. Chapter 35), the ballot materials used in the referendum herein ordered have been submitted to and approved by the Office of Management and Budget (OMB) and have been assigned OMB No. 0581-0189 for Florida citrus. It has been estimated that it will take an average of 20 minutes for each of the approximately 11,970 producers of Florida citrus to cast a ballot. Participation is voluntary. Ballots postmarked after May 6, 2002 will not be included in the vote tabulation.

William G. Pimental and Christian D. Nissen of the Southeast Marketing Field Office, and Melissa Schmaedick of the Washington, DC Office, Fruit and Vegetable Programs, Agricultural Marketing Service, USDA, are hereby designated as the referendum agents of the USDA to conduct such referendum. The procedure applicable to the referendum shall be the “Procedure for the Conduct of Referenda in Connection With Marketing Orders for Fruits, Vegetables, and Nuts Pursuant to the Agricultural Marketing Agreement Act of 1937, as Amended” (7 CFR part 900.400 et seq).

Ballots will be mailed to all producers of record and may also be obtained from the referendum agents and from their appointees.

List of Subjects in 7 CFR Part 905

Grapefruit, Marketing agreements, Oranges, Reporting and recordkeeping requirements, Tangelos, and Tangerines.

Authority: 7 U.S.C. 601-674.

Dated: March 8, 2002.
A.J. Yates,
Administrator, Agricultural Marketing Service.

[FR Doc. 02-6108 Filed 3-13-02; 8:45 am]

BILLING CODE 3410-08-P